DEPARTMENT OF JUSTICE

Office of Justice Programs; National Institute of Justice

[OMB Number 1121-NEW]

Agency Information Collection Activities; Proposed Collection; Comment Requested

ACTION: 60-Day emergency notice of information collection under review: New collection evaluation of impacts of Federal casework programs.

The Department of Justice, Office of Justice Programs, National Institute of Justice (NIJ) has submitted the following new information collection request to the Office of Management and Budget (OMB) for review and approval in accordance with the emergency review procedures of the Paperwork Reduction Act of 1995. OMB approval has been requested by September 15, 2006. The proposed information collection is published to obtain comments from the public and affected agencies. If granted, the emergency approval is only valid for 180 days. Comments should be directed to OMB, Office of Information and Regulation Affairs, Attention: Department of Justice Desk Officer (202) 395-6466, Washington, DC 20503. This process is conducted in accordance with 5 CFR 1320.10.

If you have comments, especially on the estimated public burden or associated response time, suggestions, or need a copy of the proposed information collection instrument with instructions or additional information, please contact Kathy Browning, Office of Justice Programs, National Institute of Justice, (202) 616-4786.

Written comments and suggestions from the public and affected agencies concerning the proposed collection of information are encouraged. Your comments should address one or more of the following four points:

—Evaluate whether the proposed collection of information is necessary for the proper performance of the functions of the agency, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g. permitting electronic submission of responses.

Overview of This Information Collection

(1) Type of Information Collection: New collection.

(2) Title of the Form/Collection: Evaluation of Impact of Federal Casework Programs—Prosecutor Survey; Law Enforcement Survey; *Lab Personnel Survey; *There are three versions of the lab survey, each tailored to the respective type of lab.

(3) Not Applicable.

(4) Affected public who will be asked or required to respond are: Prosecutors, Law Enforcement Officials, and Forensic Laboratory personnel from agencies within the jurisdiction represented by the grantees.

The National Institute of Justice uses this information to assess the impacts and cost-effectiveness of the Forensic Casework DNA Backlog Programs over time and to diagnose performance problems in current casework programs. This evaluation will help decision makers be better informed to not only diagnose program performance problems, but also to better understand whether the benefits of DNA collection and testing is in fact an effective public safety and crime control practice.

(5) An estimate of the total number of respondents and the amount of time needed for an average respondent to respond is broken down as follows:

Law Enforcement—200 respondents, average burden time 120 minutes—400 hours total.

Prosecutors—200 respondents, average burden time 90 minutes—300 hours total.

Lab personnel—135 respondents average burden 120 minutes—270 hours total.

(6) An estimate of the total public burden (in hours) associated with the collection: The estimated total public burden associated with this collection is 970 hours.

If additional information is required, contact: Lynn Bryant, Department Clearance Officer, United States Department of Justice, Policy and Planning Staff, Justice Management Division, Suite 1600, Patrick Henry Building, 601 D Street, NW., Washington, DC 20530.

Dated: September 5, 2006.
Lynn Bryant,
Department Clearance Officer, Department of Justice.

[FR Doc. E6-14927 Filed 9-8-06; 8:45 am]

BILLING CODE 4410-18-P